DEPARTMENT OF ENERGY

Federal Energy Regulatory Commission

[Docket No. RP00-498-00]

Koch Gateway Pipeline Company; Notice of Proposed Changes To FERC Gas Tariff

August 29, 2000.

Take notice that on August 16, 2000, Koch Gateway Pipeline Company (Koch) tendered for filing as part of its FERC Gas Tariff, Fifth Revised Volume No. 1, the following tariff sheets, to become effective March 27, 2000 and September 15, 2000.

Tariff Sheets to be Effective March 27, 2000

Third Revised Sheet No. 3600

Third Revised Sheet No. 3601

Fourth Revised Sheet No. 3605

Third Revised Sheet No. 3612

Tariff Sheets to be Effective September 15, 2000

Sixth Revised Sheet No. 3700

Original Sheet No. 3700A

Third Revised Sheet No. 3704

Koch states that the purpose of this filing is to comply with the Commission's Regulation of Short-Term Natural Gas Transportation Services and Regulation of Interstate Natural Gas Transportation Services in Docket Nos. RM98-10-000 and RM98-12-000 (Order No. 637). Among other things, the Commission in Order No. 637 waived the rate ceiling for short-term capacity release transactions and limited the availability of the right of first refusal to contracts at the maximum tariff rate having a term of twelve consecutive months or longer. On May 19, 2000, the Commission issued order 637-A which modified Order No. 637 to provide the right of first refusal will apply to multi-year seasonal contracts at the maximum rate for services not offered by the pipeline for twelve consecutive months. Accordingly, Koch has modified its tariff to comply with these requirements of Order Nos. 637 and 637A.

Koch states that copies of this filing have been served upon Koch's customers, state commissions and other interested parties.

Any person desiring to be heard or to protest such filing should file a motion to intervene or a protest with the Federal Energy Regulatory Commission, 888 First Street, NE, Washington, DC 20426, in accordance with sections 385.214 and 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-22589 Filed 9-1-00; 8:45 am]

BILLING CODE 6717-01-M